DEPARTMENT OF HEALTH AND HUMAN SERVICES

Centers for Disease Control and Prevention

Notice of Award of a Single-Source Cooperative Agreement To Fund Cote d'Ivoire Ministry of Health and Public Hygiene and Universal Health Coverage (MSHPCMU)

AGENCY: Centers for Disease Control and Prevention (CDC), Department of Health and Human Services (HHS).

ACTION: Notice.

SUMMARY: The Centers for Disease Control and Prevention (CDC), located within the Department of Health and Human Services (HHS) announces the award of approximately $3,000,000 for Year 1 of funding to the (MSHPCMU). The award will strengthen the capacities of the Ministry of Health (MOH) at the central and decentralized levels for HIV/TB infection control interventions. Funding amounts for years 2-5 will be set at continuation.

DATES: The period for this award will be September 30, 2022 through September 29, 2027.

FOR FURTHER INFORMATION CONTACT: Titania Techeira, Center for Global Health, Centers for Disease Control and Prevention, CDC Côte d'Ivoire, U.S. Embassy B.P. 730 Abidjan Cidex 03, Telephone: 800-232-6348, E-Mail: iux2@cdc.gov.

SUPPLEMENTARY INFORMATION: The single-source award will (1) Provide technical, programmatic, financial, and administrative support to the ministry departments for the implementation, coordination, mobilization, and supervision of key central-level prevention, care, and treatment activities; (2) Link and coordinate specific activities of various health ministry departments at the central and decentralized levels with related activities by other ministries in the multi-sectoral HIV/AIDS response; (3) Develop a sustainability plan which places an emphasis on national commitment to health and HIV/AIDS effort; (4) Plan, monitor, evaluate, and coordinate expanded service delivery of prevention of mother to child transmission (PMTCT), counseling and testing (CT); and anti-retroviral therapy (ART) in collaboration with the national HIV and TB program.

The MOH is the only eligible applicant that can apply for this funding opportunity because it is the sole public sector entity in Cote d'Ivoire mandated by the government to address the public's health needs. This mandate includes: (1) Coordination, monitoring and evaluation of comprehensive STI/TB and HIV prevention, and care and treatment services; (2) Coordination of HIV/AIDS interventions at decentralized levels of the health sector in Cote d'Ivoire; (3) Lead GoCI institution for strengthen the regulatory framework and promote hygiene to prevent diseases related to poor hospital hygiene; (4) Lead the GoCI in strengthening the SI management in the Ivorian national health sector response to HIV/AIDS; and Lead the GoCI for the development of the national M&E plan to monitor and evaluate the implementation of the activities and the results throughout the Ivoirian territory and at different levels of the health pyramid.

Summary of the Award

Recipient: MSHPCMU.

Purpose of the Award: The purpose of this award is to strengthen the capacities of the MOH at the central and decentralized levels for HIV/TB infection control interventions to: (1) Improve the coordination of HIV/AIDS control interventions at the decentralized levels of the health sector; (2) Strengthen the regulatory framework and promote hygiene to prevent HIV infection and healthcare-related infections; and Strengthen the management of SI for the health sector national response.

Amount of Award: The approximate year 1 funding amount will be $3,000,000 in Federal Fiscal Year (FYY) 2022 funds, subject to the availability of funds. Funding amounts for years 2-5 will be set at continuation.

Authority: Public Law 108-25 (the United States Leadership Against HIV AIDS, Tuberculosis and Malaria Act of 2003).

Period of Performance: September 30, 2022 through September 29, 2027.

Dated: February 15, 2022.
Terrance Perry,
Chief Grants Management Officer, Centers for Disease Control and Prevention.

[FR Doc. 2022-03631 Filed 2-18-22; 8:45 am]

BILLING CODE 4163-18-P